DEPARTMENT OF JUSTICE

Notice of Lodging of Consent Decree Pursuant to the Oil Pollution Act of 1990

In accordance with Departmental policy, notice is hereby given that a proposed Consent Decree in United States v. Dimitrios N. Manetas, Civil Action No. G-00-758, was lodged on March 6, 2002, with the United States District Court for the Southern District of Texas.

In this action the United States, pursuant to Sections 301(a) and 404 of the Oil Pollution Act of 1990, (“OPA”), 33 U.S.C. §§ 1311(a) and 1344, seeks civil penalties and injunctive relief, alleging that Dimitrios N. Manetas on January 22, 1999, and April 4, 1997, discharged dredged or fill material and/or controlled and directed the discharge of dredged or fill material into waters of the United States at a site located in LaMarque, Galveston County, Texas, without a permit issued by the United States Army Corps of Engineers.

The proposed Consent Decree provides that Dimitrios N. Manetas will pay the United States $18,721.00 in civil penalties and will perform mitigation projects as set out in appendix I attached to the Consent Decree, that he will comply with the terms and conditions of preservation of the project, and, except as in accordance with the Consent Decree, Manetas and his agents, successors and assigns are enjoined from discharging any pollutant into waters of the United States unless such discharge complies with the provisions of the CWA and its implementing regulations.

The Department of Justice will receive, for a period of thirty (30) days from the date of this publication, comments relating to the proposed Consent Decree. Comments should be addressed to the Assistant Attorney General for the Environment and Natural Resources Division, P.O. Box 7611, United States Department of Justice, Washington, DC 20044-7611, and should refer to United States v. Dimitrios N. Manetas, Civil Action No. G-00-758, DOJ Ref. USAO #1999V00427.

The proposed Consent Decree may be examined at the office of the United States Attorney, Southern District of Texas, 911 Travis Street, Suite 1500, Houston, Texas 77208. A copy of the Consent Decree may also be obtained by mail from the Consent Decree Library, P.O. Box 7611, United States Department of Justice, Washington, DC 20044-7611. In requesting a copy please refer to the referenced case and enclose a check in the amount of $4.00 (25 cents per page reproduction costs), payable to the Consent Decree Library.

Dated: April 9, 2002.
Gordon M. Speights Young,
Assistant United States Attorney, United States Attorney's Office, P.O. Box 61129, Houston, Texas 77208, Telephone: (713) 567-9501, Facsimile: (713) 718-3303.

[FR Doc. 02-10122 Filed 4-24-02; 8:45 am]

BILLING CODE 4410-15-M